DEPARTMENT OF HEALTH AND HUMAN SERVICES

Agency for Healthcare Research and Quality

Agency Information Collection Activities: Proposed Collection; Comment Request

AGENCY: Agency for Healthcare Research and Quality, HHS.

ACTION: Notice of request for information regarding potential Consumer Assessment of Healthcare Providers and System (CAHPS®) survey for Inpatient Mental Healthcare settings.

SUMMARY: AHRQ invites public comment on its Request for Information (RFI) about a potential Consumer Assessment of Healthcare Providers and Systems (CAHPS®) survey to assess patient care experiences in inpatient mental healthcare settings. Specifically, this RFI seeks comment regarding methodologically sound survey and data collection approaches of care experiences of those receiving inpatient mental healthcare. In addition, this RFI seeks comments about any unique considerations or concerns associated with collection of such patient care experience information. There currently is no CAHPS instrument designed to measure care from the patient perspective in this setting. This request for information will help inform the development of a scientifically sound survey to measure the experience of patients receiving inpatient mental healthcare.

DATES: Comments on this notice must be received by July 1, 2022.

ADDRESSES: Interested parties may submit comments electronically to CAHPS1@westat.com with the subject line Inpatient Mental Health Experience of Care RFI. Non-electronic responses will also be accepted. Please mail to CAHPS RFI; Westat; 1600 Research Blvd.; RB 1186S; Rockville, MD 20850.

FOR FURTHER INFORMATION CONTACT: Questions may be addressed to Caren Ginsberg, Director, CAHPS and SOPS Programs, Center for Quality Improvement and Patient Safety, caren.ginsberg@ahrq.hhs.gov, or (301) 427-1894.

SUPPLEMENTARY INFORMATION: AHRQ is seeking public comment about data collection approaches and strategies to optimize the meaningfulness of patient experience information from patients receiving inpatient mental healthcare to inform the development of a CAHPS survey. AHRQ's CAHPS Program advances scientific understanding of patient healthcare experiences using surveys developed for different healthcare settings. The CAHPS surveys cover topics that are important to patients and that they are best able to assess, such as communication with providers and access to health care services. This information can address the information needs of survey sponsors, users, patients, consumers, and other stakeholders.

Specific questions of interest to AHRQ include, but are not limited to, the following:

1. What are the highest priority aspects of patient experiences with inpatient mental healthcare that should be included in measures and surveys?

a. Why are these aspect(s) of patient experience a high priority for inclusion within assessment tools?

b. What other topic area(s) should new measures and/or surveys assessing patient experiences with inpatient mental healthcare address?

2. What are the benefits of collecting information about the experience of patients in inpatient mental health settings from (a) patients and/or (b) patients' family members/caregivers?

a. What are the benefits and/or limitations of asking patients to respond to a patient experience of care survey?

b. What are the benefits and/or limitations of asking family members/caregivers to respond to surveys about patient experience on behalf of patients?

c. What are the benefits and/or limitations of asking family members/caregivers to respond to surveys about their personal experience with their family member?

3. What, if any, challenges are there to collecting information about the experience of patients in inpatient mental health settings?

4. What would facilitate the collection of information about the experience of patients in inpatient mental health settings?

5. For which respondent group(s) should measures and/or surveys be developed? For example, should measure and/or surveys be developed for adults, children, or both?

a. In which language(s) should measures and/or surveys about the experience of patients in inpatient mental health settings be administered?

b. Which patient conditions (e.g., personality disorders; depression; schizophrenia; substance use disorder; co-occurring disorders (e.g., mental health and substance use disorders; etc.)) should these measures and/or surveys focus on in documenting the experience of patients in inpatient mental health settings?

c. In what kinds of inpatient facilities, including public and private psychiatric hospitals, nonfederal general hospitals with separate psychiatric units, the U.S. Department of Veterans Affairs medical centers, and day treatment or partial hospitalization mental health facilities should these measures and/or surveys be administered?

6. What measures and surveys that assess the experience of patients in inpatient mental health settings are currently being used?

a. Which respondent group(s) (e.g., patients in inpatient settings; family members; providers; etc.) are asked to complete these measures and surveys?

b. In which language(s) are these current measures and surveys administered?

c. Which patient conditions (e.g., personality disorders; depression; schizophrenia; substance use disorder; co-occurring disorders; etc.) are the focus of current measures and surveys about the experience of patients in inpatient mental health settings?

d. What kinds of inpatient facilities including public and private psychiatric hospitals, nonfederal general hospitals with separate psychiatric units, the U.S. Department of Veterans Affairs medical centers, and day treatment or partial hospitalization mental health facilities are using these current measures or surveys?

e. What patient experiences relative to the use of restraint and seclusion in inpatient facilities are captured using these current measures or surveys?

f. Do any current measures or surveys collect information about the degree of adherence to patient rights in inpatient facilities?

g. How are these currently used measures and surveys administered (e.g., paper-and-pencil; web-based; etc.) to these respondents group(s)?

h. How are the results/findings of these measures and surveys of patient experience in inpatient mental healthcare used and in which setting(s)?

i. What is working well/what are the strengths of these measures and surveys currently in use?

j. What content areas are missing from these measures and surveys currently in use?

k. What content areas are low priority or not useful in these currently used measures and surveys, and why?

l. What, if any, challenges are there in administering these measures and surveys in current use?

m. How are the results/findings of these current measures and surveys used to evaluate and/or improve care quality in inpatient mental healthcare settings?

Respondents are welcome to address as many or as few of these questions as they choose and/or to address additional areas of interest not listed.

This RFI is for planning purposes only and should not be construed as a policy, solicitation for applications, or as an obligation on the part of the Government to provide support for any ideas in response to it. AHRQ will use the information submitted in response to this RFI at its discretion, and will not provide comments to any respondent's submission. However, responses to this RFI may be reflected in future solicitation(s) or policies. Respondents are advised that the Government is under no obligation to acknowledge receipt of the information received or provide feedback to respondents with respect to any information submitted. No proprietary, classified, confidential or sensitive information should be included in your response. The Government reserves the right to use any non-proprietary technical information in any resultant solicitation(s). The contents of all submissions will be made available to the public upon request. Submitted materials must be publicly available or able to be made public.

Dated: April 26, 2022.
Marquita Cullom,
Associate Director.

[FR Doc. 2022-09320 Filed 4-29-22; 8:45 am]

BILLING CODE 4160-90-P